CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, Kimberly Mansaray, at (202) 606-5000, extension 249. Individuals who use a telecommunications device for the deaf (TTY-TDD) may call (800) 833-3722 between the hours of 9 a.m. and 5 p.m. Eastern Standard Time, Monday through Friday.

Comments should be sent to the Office of Information and Regulatory Affairs, Attn: Ms. Brenda Aguilar, OMB Desk Officer for the Corporation for National and Community Service, Office of Management and Budget, Room 10235, Washington, DC, 20503, (202) 395-7316, within 30 days from the date of publication in this Federal Register.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description

The AmeriCorps member application will gather data from applicants, including background information, educational history, skills and experience, and a motivational statement that AmeriCorps may use in evaluating their suitability for becoming a member and to place them in the most appropriate program(s) that match their skills and interests. The new application has very few changes from the previously approved application, and if approved, this application will continue to enable applicants to complete one application and be considered for multiple programs within AmeriCorps. This new application will continue to be cost-effective for the government by providing a centralized information source and streamlined process for receiving applications and placing them into the proper programs. Therefore, the Corporation seeks approval of its new AmeriCorps Application for Membership.

Type of Review: Renewal.

Agency: Corporation for National and Community Service.

Title: AmeriCorps Application for Membership.

OMB Number: 3045-0054.

Agency Number: None.

Affected Public: Those individuals interested in applying to become a member of any of the AmeriCorps programs, including AmeriCorps*NCCC and AmeriCorps*VISTA, and hundreds of state and local programs located throughout the country which recruit AmeriCorps members.

Total Respondents: Approximately 75,000. (Approximately 50,000 individuals serve each year in AmeriCorps programs; (collection totals are inexact, as almost all completed applications are submitted to local programs and are not sent to the Corporation for National Service).

Frequency: One time. Applicants may make copies of their completed form, and submit copies (each, however, with an original signature) to several different AmeriCorps programs for consideration. In addition, applicants may fill out the same application on line at the Corporation's Web site. Applicants may then send multiple applications to programs electronically.

Average Time Per Response: 45 minutes.

Estimated Total Burden Hours: 56,250 hours. (if 75,000 individuals complete the form per year).

Total Burden Cost (capital/startup): None.

Total Burden Cost (operating/maintenance): None.

Comments submitted in response to this notice will be summarized and/or included in the request for Office of Management and Budget approval of the information collection request; they will also become a matter of public record.

Dated: August 5, 2002.
Kimberly Mansaray,
Acting Director, AmeriCorps Recruitment, Selection and Placement.

[FR Doc. 02-20189 Filed 8-8-02; 8:45 am]

BILLING CODE 6050-$$-P